DEPARTMENT OF THE INTERIOR

National Park Service

Notice of Inventory Completion: Museum of Northern Arizona, Flagstaff, AZ

AGENCY: National Park Service, Interior.

ACTION: Notice.

Notice is here given in accordance with the Native American Graves Protection and Repatriation Act (NAGPRA), 25 U.S.C. 3003, of the completion of an inventory of human remains and associated funerary objects in the possession of the Museum of Northern Arizona, Flagstaff, AZ. The human remains and associated funerary objects were removed from Maricopa County, AZ.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

A detailed assessment of the human remains was made by the Museum of Northern Arizona professional staff in consultation with representatives of the Ak-Chin Indian Community of the Maricopa (Ak Chin) Indian Reservation, Arizona; Colorado River Indian Tribes of the Colorado River Indian Reservation, Arizona and California; Gila River Indian Community of the Gila River Indian Reservation, Arizona; Hopi Tribe of Arizona; Pascua Yaqui Tribe of Arizona; Salt River Pima-Maricopa Indian Community of the Salt River Reservation, Arizona; Tohono O'odham Nation of Arizona; Yavapai-Apache Nation of the Camp Verde Indian Reservation, Arizona; Yavapai-Prescott Tribe of the Yavapai Reservation, Arizona; and Zuni Tribe of the Zuni Reservation, New Mexico.

In 1978 and 1979, human remains representing a minimum of 83 individuals were removed from the Cashion site (NA 14690), Maricopa County, AZ, during archeological investigations conducted by the Museum of Nothern Arizona on behalf of the Arizona Nuclear Power Project. The investigations took place prior to the construction of a wastewater conveyance system to cool the Palo Verde Nuclear Generating Station. The Cashion site is a large Hohokam settlement south of the town of Cashion and north of the confluence of the Salt and Gila Rivers in central Arizona. No known individuals were identified. The 796 associated funerary objects are 325 pottery and ceramic fragments; 102 jewelry items and fragments; 1 reed mat; 121 soil, faunal bone, C-14, pollen, and wood samples; and 247 tools and implements.

Based on archeological evidence, associated funerary objects, and geographic location, the human remains are determined to be Native American. Archeological evidence indicates that the Salt River area of central Arizona was occupied approximately A.D. 700-900 by the Hohokam people, for whom cremation was a common mortuary practice. Many of the individuals removed from the Cashion site were cremations.

Archeological, historical, and oral tradition evidence indicate that there is a relationship of shared group identity between the Hohokam people and the present-day Piman and O'odham cultures, represented by the Ak-Chin Indian Community of the Maricopa (Ak Chin) Indian Reservation, Arizona; Gila River Indian Community of the Gila River Indian Reservation, Arizona; Salt River Pima-Maricopa Indian Community of the Salt River Reservation, Arizona; and Tohono O'odham Nation of Arizona. According to oral traditions of the Hopi and Zuni, segments of the prehistoric Hohokam population migrated to areas that were occupied by Hopi and Zuni and were assimilated into the resident populations. Therefore, there is also a relationship of shared group identity between the Hohokam and the Hopi Tribe of Arizona and Zuni Tribe of the Zuni Reservation, New Mexico.

Officials of the Museum of Northern Arizona have determined that, pursuant to 25 U.S.C. 3001 (9-10), the human remains described above represent the physical remains of 83 individuals of Native American ancestry. Officials of the Museum of Northern Arizona also have determined that, pursuant to 25 U.S.C. 3001 (3)(A), the 796 objects described above are reasonably believed to have been placed with the individual human remains at the time of death or later as part of the death rite or ceremony. Lastly, officials of the Museum of Northern Arizona have determined that, pursuant to 25 U.S.C. 3001 (2), there is a relationship of shared group identity that can be reasonably traced between the Native American human remains and associated funerary objects and the Ak-Chin Indian Community of the Maricopa (Ak Chin) Indian Reservation, Arizona; Gila River Indian Community of the Gila River Indian Reservation, Arizona; Hopi Tribe of Arizona; Salt River Pima-Maricopa Indian Community of the Salt River Reservation, Arizona; Tohono O'odham Nation of Arizona; and Zuni Tribe of the Zuni Reservation, New Mexico.

Representatives of any other Indian tribe that believes itself to be culturally affiliated with the human remains and associated funerary objects should contact Gloria Lomahaftewa, Museum of Northern Arizona, 3101 North Fort Valley Road, Flagstaff, AZ 86001, telephone (928) 774-5211, extension 228, before October 11, 2006. Repatriation of the human remains and associated funerary objects to the Ak-Chin Indian Community of the Maricopa (Ak Chin) Indian Reservation, Arizona; Gila River Indian Community of the Gila River Indian Reservation, Arizona; Hopi Tribe of Arizona; Salt River Pima-Maricopa Indian Community of the Salt River Reservation, Arizona; Tohono O'odham Nation of Arizona; or Zuni Tribe of the Zuni Reservation, New Mexico may proceed after that date if no additional claimants come forward.

The Museum of Northern Arizona is responsible for notifying the Ak-Chin Indian Community of the Maricopa (Ak Chin) Indian Reservation, Arizona; Colorado River Indian Tribes of the Colorado River Indian Reservation, Arizona and California; Gila River Indian Community of the Gila River Indian Reservation, Arizona; Hopi Tribe of Arizona; Pascua Yaqui Tribe of Arizona; Salt River Pima-Maricopa Indian Community of the Salt River Reservation, Arizona; Tohono O'odham Nation of Arizona; Yavapai-Apache Nation of the Camp Verde Indian Reservation, Arizona; Yavapai-Prescott Tribe of the Yavapai Reservation, Arizona; and Zuni Tribe of the Zuni Reservation, New Mexico that this notice has been published.

Dated: August 21, 2006
C. Timothy McKeown,
Acting Manager, National NAGPRA Program.

[FR Doc. E6-14932 Filed 9-8-06; 8:45 am]

BILLING CODE 4312-50-S